DEPARTMENT OF THE INTERIOR

Minerals Management Service

Gulf of Mexico, Outer Continental Shelf, Western Planning Area, Oil and Gas Lease Sale 215 (2010) Environmental Assessment

AGENCY: Minerals Management Service, Interior.

ACTION: Notice of availability of an environmental assessment.

SUMMARY: The Minerals Management Service (MMS) is issuing this notice to advise the public, pursuant to the National Environmental Policy Act of 1969 (NEPA), as amended, 42 U.S.C. 4321 et seq., that MMS has prepared an environmental assessment (EA) for proposed Gulf of Mexico Outer Continental Shelf (OCS) oil and gas Lease Sale 215 in the Western Planning Area (WPA) (Lease Sale 215) scheduled for August 2010. The preparation of this EA is an important step in the decision process for Lease Sale 215. The proposal for Lease Sale 215 was identified by the Notice of Preparation published in the Federal Register on September 9, 2009, and was analyzed in the Gulf of Mexico OCS Oil and Gas Lease Sales: 2007-2012; Western Planning Area Sales 204, 207, 210, 215, and 218; Central Planning Area Sales 205, 206, 208, 213, 216, and 222—Final Environmental Impact Statement; Volumes I and II (Multisale EIS, OCS EIS/EA MMS 2007-018) and in the Gulf of Mexico OCS Oil and Gas Lease Sales: 2009-2012; Central Planning Area Sales 208, 213, 216, and 222; Western Planning Area Sales 210, 215, and 218—Final Supplemental Environmental Impact Statement (Supplemental EIS, OCS EIS/EA MMS 2008-041).

This EA for proposed Lease Sale 215 examines the potential environmental effects of the proposed lease sale and its alternatives (excluding unleased whole and partial blocks that are part of Flower Garden Banks National Marine Sanctuary and whole and partial blocks that lie within the 1.4-nautical-mile buffer zone north of the OCS boundary between the U.S. and Mexico) based on changes and any new relevant information and circumstances regarding potential environmental impacts and issues that were not available at the time the Supplemental EIS was prepared to determine if preparation of a new supplemental EIS is warranted. No new significant impacts were identified for proposed Lease Sale 215 that were not already assessed in the Multisale EIS or Supplemental EIS. As a result, MMS determined that an additional supplemental EIS is not required and prepared a Finding of No New Significant Impact (FONNSI).

FOR FURTHER INFORMATION CONTACT: Mr. Barry Obiol, Minerals Management Service, Gulf of Mexico OCS Region, 1201 Elmwood Park Boulevard, MS 5410, New Orleans, Louisiana 70123-2394. You may also contact Mr. Obiol by telephone at (504) 736-2786.

SUPPLEMENTARY INFORMATION: The Multisale EIS (OCS EIS/EA MMS 2007-018) addressed WPA Lease Sale 204 in 2007, Sale 207 in 2008, Sale 210 in 2009, Sale 215 in 2010, and Sale 218 in 2011; and Central Planning Area (CPA) Lease Sale 205 in 2007, Sale 206 in 2008, Sale 208 in 2009, Sale 213 in 2010, Sale 216 in 2011, and Sale 222 in 2012. However, the Gulf of Mexico Energy Security Act of 2006 repealed the Congressional moratorium on approximately 5.8 million acres located in the southeastern part of the CPA. Therefore, it was necessary to prepare additional NEPA documentation to address the MMS proposal to expand the CPA by the 5.8-million-acre area. Federal regulations allow for several related or similar proposals to be analyzed in one EIS (40 CFR 1502.4). Since each proposed lease sale and its projected activities are very similar each year for each planning area, a single Supplemental EIS was prepared for the remaining seven WPA and CPA lease sales scheduled in the OCS Oil and Gas Leasing Program: 2007-2012 (5-Year Program). In September 2008, MMS published a Supplemental EIS (OCS EIS/EA MMS 2008-041) that addressed seven proposed Federal actions that would offer for lease areas on the Gulf of Mexico OCS that may contain economically recoverable oil and gas resources.

An additional NEPA review (an EA) was conducted for proposed Lease Sale 215 to address any new information relevant to the proposed lease sale. Additional NEPA reviews will also be conducted prior to decisions on each of the three subsequent proposed lease sales. The purpose of these EA's is to determine whether to prepare a FONNSI or a Supplemental EIS. For each proposed lease sale, MMS prepares a Consistency Determination (CD) to determine whether the lease sale is consistent with each affected State's federally approved, coastal zone management program. Finally, MMS solicits comments via the Proposed Notice of Sale (NOS) from the governors of the affected States on the size, timing, and location of the lease sale. The tentative schedule for the prelease decision process for Lease Sale 215 is as follows: CD's sent to the affected States, March 2010; Proposed NOS sent to the governors of the affected States, March 2010; Final NOS, if applicable, published in the Federal Register, July 2010; and Lease Sale 215, August 2010.

EA Availablity: To obtain a copy of this EA and FONNSI, you may contact the Minerals Management Service, Gulf of Mexico OCS Region, Attention: Public Information Office (MS 5034), 1201 Elmwood Park Boulevard, Room 114, New Orleans, Louisiana 70123-2394 (1-800-200-GULF). You may also view this EA and FONNSI on the MMS Web site at http://www.gomr.mms.gov/homepg/regulate/environ/nepa/nepaprocess.html.

Dated: March 31, 2010.
Chris C. Oynes,
Associate Director for Offshore Minerals Management.

[FR Doc. 2010-7715 Filed 4-2-10; 8:45 am]

BILLING CODE 4310-MR-P